DEPARTMENT OF LABOR

Employment and Training Administration

[TA-W-51,191]

Getronics Wang Company, LCC, Valley View, OH; Notice of Revised Determination on Remand

The United States Court of International Trade (USCIT) granted the Secretary of Labor's motion for a voluntary remand for further investigation in Former Employees of Getronics Wang Co., LLC v. Elaine Chao, U.S. Secretary of Labor, No. 03-00529.

The Department's initial determination regarding Getronics Wang Co. LLC (hereafter “Getronics”) was issued on April 23, 2003, and published in the Federal Register on May 7, 2003 (68 FR 24503). The negative determination was based on the finding that the workers did not produce an article within the meaning of section 222 of the Trade Act of 1974. Workers performed data processing and related services for an unaffiliated company.

By letter dated June 2, 2003, the petitioner requested administrative reconsideration. The Notice of Negative Determination Regarding Application for Reconsideration was signed on June 13, 2003, and published in the Federal Register on July 7, 2003 (68 FR 40300). The determination was based on the findings that the workers did not produce an article within the meaning of Section 222 of the Trade Act and that the workers were not service providers in direct support of a Trade Adjustment Assistance (TAA) certified firm.

The remand investigation revealed that Getronics has a contract to provide on site services with a TAA certified company, LTV Steel Company, Inc., Cleveland, Ohio (TA-W-40,786; certified March 21, 2002).

Conclusion

After careful review of the additional facts obtained on the current remand, I conclude that the subject worker group provided services, the worker group is co-located with a trade-certified firm, and there is a contract between the subject firm and the trade-certified firm. In accordance with the provisions of the Trade Act, I make the following certification:

All workers of Getronics Wang Co., LLC, Valley View, Ohio, who became totally or partially separated from employment on or after March 3, 2002, through two years from the issuance of this revised determination, are eligible to apply for adjustment assistance under section 223 of the Trade Act of 1974.

Signed in Washington, DC this 2nd day of April, 2004.
Elliott S. Kushner,
Certifying Officer, Division of Trade Adjustment Assistance.

[FR Doc. E4-857 Filed 4-15-04; 8:45 am]

BILLING CODE 4510-13-P